DEPARTMENT OF TRANSPORTATION

Surface Transportation Board

[STB Finance Docket No. 35062]

Finger Lakes Railway Corp.—Control Exemption—Ontario Central Railroad Corp.; Notice of Exemption

AGENCY: Surface Transportation Board, DoT.

ACTION: Notice of exemption.

SUMMARY: The Board grants an exemption, under 49 U.S.C. 10502, from the prior approval requirements of 49 U.S.C. 11323, et seq., for Finger Lakes Railway Corp. (FGLK), a Class III rail carrier, to acquire control by purchase of 81.05% of the issued and outstanding stock of Ontario Central Railroad Corp. (ONCT) from Livonia, Avon & Lakeville Railroad Corp. The rail line consists of 14 miles of the rail line in New York.

DATES: The exemption will be effective on October 15, 2007. Petitions to stay must be filed by October 10, 2007. Petitions to reopen must be filed by October 22, 2007.

ADDRESSES: An original and 10 copies of all pleadings, referring to STB Finance Docket No. 35062, must be filed with the Surface Transportation Board, 395 E Street, SW., Washington, DC 20423-0001. In addition, one copy of all pleadings must be served on FGLK's representative, Eric M. Hocky, Gollatz, Griffin & Ewing, P.C., Four Penn Center, Suite 200, 1600 John F. Kennedy Blvd., Philadelphia, PA 19103-2808.

FOR FURTHER INFORMATION CONTACT: Julia Farr, (202) 245-0359. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at http://www.stb.dot.gov.

Decided: October 1, 2007.
By the Board, Chairman Nottingham, Vice Chairman Buttrey, and Commissioner Mulvey.
Vernon A. Williams,
Secretary.

[FR Doc. E7-19714 Filed 10-4-07; 8:45 am]

BILLING CODE 4915-01-P